ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, Wednesday through Friday, September 5-7, 2007, at the times and location noted below.

DATES: The schedule of events is as follows:

Wednesday, September 5, 2007

10-Noon—Airport Ad Hoc Committee

1:30-3 p.m.—Technical Programs Committee

3-4—Transportation Vehicle Guidelines Ad Hoc Committee (Closed)

4-5—Passenger Vessels Guidelines Ad Hoc Committee (Closed)

Thursday, September 6, 2007

9-10 a.m.—Planning and Evaluation Committee

10-11—Accessible Design in Education Ad Hoc Committee

11-Noon—Ethics Briefing

2 p.m.-5—Public Hearing on Outdoor Developed Areas Proposed Rule

Friday, September 7, 2007

9-10:30 a.m.—Budget Committee

10:30-Noon—Executive Committee

Noon-2—Electronic and Information Technology Ad Hoc Committee

2:30-3:30 p.m.—Board Meeting

ADDRESSES: All meetings will be held at The Madison Hotel, 1177 15th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the May 2007 draft Board Meeting Minutes.

• Airport Ad Hoc Committee Report.

• Transportation Vehicle Guidelines Ad Hoc Committee Report.

• Passenger Vessels Guidelines Committee Report.

• Accessible Design in Education Ad Hoc Committee Report.

• Electronic and Information Technology Ad Hoc Committee Report.

• Election Assistance Committee Report.

• Technical Programs Committee Report.

• Planning and Evaluation Committee Report.

• Budget Committee Report.

• Executive Committee Report.

All meetings are accessible to persons with disabilities. An assistive listening system, computer assisted real-time transcription (CART), and sign language interpreters will be available at the Board meetings. Persons attending Board meetings are requested to refrain from using perfume, cologne, and other fragrances for the comfort of other participants.

Persons wishing to testify at the public hearing on the Board's Outdoor Developed Areas Proposed Rule should register in advance by contacting Kathy Johnson at 202.272.0041 (voice), or Johnson@access-board.gov (e-mail). Additional information regarding the proposed rule is available on the Board's Web site at the following address: http://www.access-board.gov/news/outdoor-nprm.htm.

James J. Raggio,
General Counsel.

[FR Doc. E7-16355 Filed 8-17-07; 8:45 am]

BILLING CODE 8150-01-P